ENVIRONMENTAL PROTECTION AGENCY

40 CFR Part 300

[EPA-HQ-SFUND-1992-0007; FRL-9967-36-Region 10]

National Oil and Hazardous Substances Pollution Contingency Plan; National Priorities List: Deletion of the Vancouver Water Station #4 Superfund Site

AGENCY: Environmental Protection Agency (EPA).

ACTION: Proposed rule; notification of intent.

SUMMARY: The Environmental Protection Agency (EPA) Region 10 is issuing a Notice of Intent to Delete the Vancouver Water Station #4 Contamination Superfund Site (Site) located in Vancouver, Washington, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the State of Washington, through the Department of Ecology have determined that all appropriate response actions under CERCLA, have been completed. However, this deletion does not preclude future actions under Superfund.

DATES: Comments must be received by October 25, 2017.

ADDRESSES: Submit your comments, identified by Docket ID no. EPA-HQ-SFUND-1992-0007 by one of the following methods:

(1) http://www.regulations.gov. Follow on-line instructions for submitting comments.

(2) Email: Laura Knudsen, Community Involvement Coordinator, at knudsen.laura@epa.gov.

(3) Mail: Laura Knudsen, U.S. EPA Region 10, 1200 Sixth Avenue, Suite 900, RAD-202-3, Seattle, Washington 98101.

(4) Hand delivery: USEPA Region 10 Records Center, 1200 Sixth Avenue, Suite 900, Seattle, Washington. Such deliveries are only accepted during the Docket's normal hours of operation, and special arrangements should be made for deliveries of boxed information.

Instructions: Direct your comments to Docket ID no. EPA-HQ-SFUND-1992-0007. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

USEPA Region 10 Records Center, 1200 Sixth Avenue, Suite 900, Seattle, Washington, Monday through Friday, except Federal holidays, between 8:00 a.m. and 5:00 p.m.

City of Vancouver Water Resources Education Center, 4600 SE Columbia Way, Vancouver, Washington, Monday through Friday, except holidays, between 9:00 a.m. and 5:00 p.m. and Saturday between noon and 5:00 p.m., Phone: 360-487-7111.

FOR FURTHER INFORMATION CONTACT: Jeremy Jennings, Remedial Project Manager, U.S. Environmental Protection Agency, Region 10, ECL-122, 1200 Sixth Avenue, Suite 900, Seattle, Washington 98101, 206-553-2724, email jennings.jeremy@epa.gov.

SUPPLEMENTARY INFORMATION:

Table of Contents

I. Introduction

II. NPL Deletion Criteria

III. Deletion Procedures

IV. Basis for Intended Site Deletion

I. Introduction

EPA Region 10 announces its intent to delete the Vancouver Water Station #4 Contamination Superfund Site from the National Priorities List (NPL) and requests public comment on this proposed action. The NPL constitutes Appendix B of 40 CFR part 300 which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

EPA will accept comments on the proposal to delete this Site for thirty (30) days after publication of this document in the Federal Register.

Section II of this document explains the criteria for deleting sites from the NPL. Section III discusses procedures that EPA is using for this action. Section IV discusses the Vancouver Water Station #4 Contamination Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

(1) Responsible parties or other persons have implemented all appropriate response action required;

(2) all appropriate Fund-financed response under CERCLA has been implemented, and no further response action by responsible parties is appropriate; or

(3) the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the State before developing this Notice of Intent to Delete.

(2) EPA has provided the State 30 working days for review of this notice prior to publication of it today.

(3) In accordance with the criteria discussed above, EPA has determined that no further response is appropriate.

(4) The State of Washington, through the Department of Ecology, has concurred with deletion of the Site from the NPL.

(5) Concurrently with the publication of this Notice of Intent to Delete in the Federal Register, a notice is being published in a major local newspaper, The Columbian. The newspaper notice announces the 30-day public comment period concerning the Notice of Intent to Delete the Site from the NPL.

(6) The EPA placed copies of documents supporting the proposed deletion in the deletion docket and made these items available for public inspection and copying at the Site information repositories identified previously.

If comments are received within the 30-day public comment period on this document, EPA will evaluate and respond appropriately to the comments before making a final decision to delete. If necessary, EPA will prepare a Responsiveness Summary to address any significant public comments received. After the public comment period, if EPA determines it is still appropriate to delete the Site, the Regional Administrator will publish a final Notice of Deletion in the Federal Register. Public notices, public submissions and copies of the Responsiveness Summary, if prepared, will be made available to interested parties and in the Site information repositories listed previously.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Intended Site Deletion

The following information provides EPA's rationale for deleting the Site from the NPL:

Site Background and History

The Vancouver Water Station #4 Contamination Superfund Site (EPA ID: WAD988475158) is a public water supply wellfield located approximately ½ mile north of the Columbia River in the City of Vancouver, Clark County, Washington. Water Station #4 (WS4) has been owned by the City of Vancouver (City) and managed as part of their drinking water supply system for over 50 years. WS4 is approximately ½ acre in size and includes six production wells, two air stripping towers and several support buildings. Groundwater is pumped from approximately 200 feet below ground surface and blended with water from several other wellfields to provide drinking water to approximately 230,000 people in the Vancouver region.

In 1988, pursuant to the Safe Drinking Water Act (SDWA), the City began monitoring volatile organic compounds (VOCs) in water supplied from all of its water stations. These tests showed tetrachloroethylene (PCE) at several WS4 wells at levels above the maximum contaminant level (MCL) established under the SDWA. The City notified the public and modified the pumping rates at individual wells so that PCE levels in the drinking water delivered to customers were consistently below the MCL. In January 1992, the City began operating an air stripping treatment system to further reduce PCE levels.

On July 29, 1991, EPA proposed WS4 for listing on the NPL (56 FR 35840). The NPL listing for the Site was finalized on October 14, 1992 (59 FR 47180).

The City continues to use the water from the WS4 production wells as part of their drinking water supply system.

Remedial Investigation and Feasibility Study (RI/FS)

A baseline risk assessment completed by EPA quantified potential carcinogenic risks to future residents consuming untreated water ranged from 5E-6 to 2E-5 cancer risk (5 to 20 excess cancers in 1,000,000 people) and non-cancer risk from a hazard index of 0.02 to 0.2. EPA found it was necessary to take action at WS4 because the groundwater had been shown to have persistent concentrations of PCE above the MCL.

Starting in 1989, the City and EPA conducted several investigations into the source or sources of PCE at WS4 including sampling of private wells, nearby surface waters and industrial sumps; conducting soil gas surveys; and inspecting local dry cleaners and other places of business where PCE may have been used. In 1992, PCE concentrations suddenly increased, peaked at 520 µg/L in 1993 and then decreased over the next several years. Although multiple potential sources of PCE (e.g., dry cleaners) were located, no source was identified as primarily responsible for the sustained high concentrations and for which any additional source control actions could be taken. EPA concluded that there was not an on-going source of PCE and there was a strong likelihood that an unidentified source was responsible for the elevated PCE levels.

Selected Remedy

On September 1, 1999, the EPA issued a Record of Decision (ROD) for the Site. PCE was identified as the only Contaminant of Concern. Remedial Action Objectives were established to protect human health by reducing concentrations of PCE in the groundwater and drinking water to below the MCL (5.0 µg/L).

The selected remedy for the Site included pumping the production wells at a rate consistent with customer demand until such time as the PCE level in the groundwater at all production wells was below the MCL. The extracted water was to be treated using the air stripping towers and distributed to customers as drinking water. Monitoring of the quality of the groundwater at the production wells and the water following treatment was also required. Since no sources were identified and no other drinking water wells were located in the area, no source control actions or institutional controls were included.

Response Actions

The City's production wells were used to pump contaminated groundwater, which was then treated in air stripping towers. This treatment system reduced PCE to nondetectable levels, so the water could then be delivered to customers for use as drinking water. This pump, treat, and delivery system began in 1992 and has operated continuously for 25 years. Throughout this period, the City monitored PCE concentrations in the aquifer, which declined gradually over time.

The PCE levels in the groundwater at all wells are currently below the MCL. Thus, the remedial action objectives have been attained and the human health exposure pathways have been eliminated.

A Preliminary Close Out Report documenting the completion of construction activities was signed by EPA on September 8, 1999. The Site was identified as “Sitewide Ready for Anticipated Use” on March 11, 2014. A Final Close Out Report documenting completion of all remedial activities was signed by EPA on June 12, 2017.

Cleanup Levels

The 1999 ROD requires treatment and monitoring until the PCE concentrations in groundwater at all production wells are below the MCL. As there have been no changes to the federal or state drinking water standards for PCE or changes in the toxicity factors for PCE since the ROD was issued, this cleanup level remains protective of human health and the environment.

In June 2017 the EPA reviewed the monitoring data and found that PCE concentrations have been below the MCL since October 2011. Based on this evaluation, EPA determined that all remedial activities at the Site were complete and remedial action objectives have been achieved. All drinking water delivered from the wellfield must continue to meet the requirements of the SDWA.

Five-Year Review

Three policy five-year reviews have been completed at the Site, the last one in September 2013.

No issues or follow-up actions were identified as part of the 2013 Five Year Review. The protectiveness statement stated that the remedy at Vancouver WS4 was “protective of human health and the environment because the treatment system is functioning as intended and human and ecological risks are under control. Long-term protectiveness of the remedial action will be verified by regular monitoring by the City of Vancouver.”

The analysis conducted since the last FYR indicates that the remedy has been fully implemented and the remedial action objectives and related cleanup levels have been attained. No hazardous substances, pollutants or contaminants remain above levels that could prevent unlimited use and unrestricted exposure. Therefore, no further five-year reviews are required.

Community Involvement

Public participation activities have been satisfied as required in CERCLA Section 113(k), 42 U.S.C. 9613(k) and CERCLA Section 117, 42 U.S.C. 9617. Throughout the remedial process, the EPA has kept the public informed of activities being conducted at the Site by way of informational meetings, fact sheets and public meetings.

Documents in the deletion docket which the EPA relied on for the recommendation for deletion from the NPL are available to the public in the information repositories identified previously. A notice of availability of the Notice of Intent for Deletion has been published in The Columbian.

Determination That the Site Meets the Criteria for Deletion in the NCP

The EPA, with concurrence of the State of Washington through the Department of Ecology, has determined that the implemented remedy achieves the degree of cleanup or protection specified in the ROD for all pathways of exposure. All selected remedial and removal action objectives and associated cleanup levels are consistent with agency policy and guidance. No further Superfund response is needed to protect human health and the environment.

In accordance with 40 CFR 300.425(e), sites may be deleted from the NPL where all appropriate response actions have been implemented and where no further response is appropriate. Consistent with this, the EPA is proposing deletion of this Site from the NPL.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: August 25, 2017.
Sheryl Bilbrey,
Director—Region 10 Office of Environmental Cleanup.

[FR Doc. 2017-20448 Filed 9-22-17; 8:45 am]

BILLING CODE 6560-50-P